DEPARTMENT OF TRANSPORTATION

Federal Railroad Administration

[Docket No. FRA 2016-0002-N-12]

Renewal of Agency Information Collection Activities; Comment Request

AGENCY: Federal Railroad Administration (FRA), Department of Transportation.

ACTION: Notice and request for comments.

SUMMARY: Under with the Paperwork Reduction Act of 1995 and its implementing regulations, FRA seeks renewal of six currently-approved information collection activities. Before submitting these information collection requirements (ICRs) to the Office of Management and Budget (OMB) for renewed approval, FRA is soliciting public comment on specific aspects of the activities identified in this notice.

DATES: Comments must be received no later than July 5, 2016.

ADDRESSES: Submit written comments on any or all of the information activities described in this notice by mail to either: Mr. Robert Brogan, Information Collection Clearance Officer, Regulatory Safety Analysis Division, RRS-21, FRA, 1200 New Jersey Ave. SE., Mail Stop 17, Washington, DC 20590, or Ms. Kimberly Toone, Information Collection Clearance Officer, Office of Information Technology, RAD-20, FRA, 1200 New Jersey Ave. SE., Mail Stop 35, Washington, DC 20590. Commenters requesting FRA to acknowledge receipt of their respective comments must include a self-addressed stamped postcard stating, “Comments on OMB control number ____.” Alternatively, comments may be transmitted via facsimile to (202) 493-6216 or (202) 493-6497, or via email to Mr. Brogan at Robert.Brogan@dot.gov, or to Ms. Toone at Kim.Toone@dot.gov. Please refer to the assigned OMB control number in any correspondence submitted. FRA will summarize comments received in response to this notice in a subsequent notice and include them in its information collection submission to OMB for approval.

FOR FURTHER INFORMATION CONTACT: Mr. Robert Brogan, Information Collection Clearance Officer, Regulatory Safety Analysis Division, RRS-21, FRA, 1200 New Jersey Ave. SE., Mail Stop 17, Washington, DC 20590 (telephone: (202) 493-6292), or Ms. Kimberly Toone, Information Collection Clearance Officer, Office of Information Technology, RAD-20, FRA, 1200 New Jersey Ave. SE., Mail Stop 35, Washington, DC 20590 (telephone: (202) 493-6132). (These telephone numbers are not toll-free.)

SUPPLEMENTARY INFORMATION: The Paperwork Reduction Act of 1995 (PRA), Public Law 104-13, sec. 2, 109 Stat. 163 (1995) (codified as revised at 44 U.S.C. 3501-3520), and its implementing regulations, 5 CFR part 1320, require Federal agencies to provide 60-days' notice to the public for comment on information collection activities before seeking approval for reinstatement or renewal by OMB. 44 U.S.C. 3506(c)(2)(A); 5 CFR 1320.8(d)(1), 1320.10(e)(1), 1320.12(a). Specifically, FRA invites interested respondents to comment on the following summary of information collection activities regarding: (i) Whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A); 5 CFR 1320.8(d)(1). FRA believes that soliciting public comment will promote its efforts to reduce the administrative and paperwork burdens associated with the collection of information Federal regulations mandate. In summary, FRA reasons that comments received will advance three objectives: (i) Reduce reporting burdens; (ii) organize information collection requirements in a “user-friendly” format to improve the use of such information; and (iii) accurately assess the resources expended to retrieve and produce information requested. See 44 U.S.C. 3501.

Below are brief summaries of six currently-approved information collection activities that FRA will submit for OMB clearance as required under the PRA:

Title: Filing of Dedicated Cars.

OMB Control Number: 2130-0502.

Type of Request: Extension of a currently-approved collection.

Affected Public: Businesses.

Form(s): N/A.

Abstract: Title 49 CFR part 215 contains standards for freight car safety and prescribes certain conditions to be followed for the movement of freight cars in dedicated service. Dedicated service means the exclusive assignment of railroad cars to the transportation of freight between specified points under the conditions defined in § 215.5(d), including stenciling, or otherwise displaying, in clear legible letters on each side of the car body the words “Dedicated Service.” A railroad must identify those cars in a written report to FRA before the railroad assigns the cars to dedicated service. The railroad must file that report with FRA not less than 30 days before the cars operate in dedicated service. FRA uses the information collected under § 215.5(d) to determine the number of railroads affected, the number and type of cars involved, the commodities being carried, and the territorial and speed limits within which the cars will be operated. FRA reviews these reports to determine if the equipment is safe to operate and if the operation qualifies for dedicated service. The information collected indicates to FRA and State inspectors that the particular or “dedicated” cars are in special service and that certain restrictions apply to their movement under part 215. Cars not in compliance may be cited for violations by FRA inspectors. Railroads also use the information collected to provide identification and control so that dedicated cars remain in the prescribed service.

Total Annual Estimated Responses: 4.

Total Annual Estimated Burden: 4 hours.

Status: Regular review.

Title: Special Notice for Repairs.

OMB Control Number: 2130-0504.

Type of Request: Extension of a currently-approved collection.

Affected Public: Businesses.

Form(s): FRA F 6180.8; FRA F 6180.8A.

Abstract: Under 49 CFR part 216, FRA and State inspectors may issue a Special Notice for Repairs to notify railroads in writing of an unsafe condition involving a locomotive, car, or track. The railroad must notify FRA in writing when the equipment is returned to service or the track restored to a condition permitting operations at speeds authorized for a higher class, specifying the repairs completed. FRA and State inspectors use this information to remove from service freight cars, passenger cars, and locomotives until they can be restored to a serviceable condition. They also use this information to reduce the maximum authorized speed on a section of track until repairs can be made.

Total Annual Estimated Responses: 72.

Total Annual Estimated Burden: 20 hours.

Status: Regular review.

Title: Rear-End Marking Devices.

OMB Control Number: 2130-0523.

Type of Request: Extension of a currently-approved collection.

Affected Public: Businesses.

Form Number(s): N/A.

Abstract: Title 49 CFR part 221 contains requirements for rear end marking devices and railroads must give FRA a detailed description of the type of marking devices used for any locomotive operating singly or for cars or locomotives operating at the end of a train (trailing end) to ensure they meet minimum standards for visibility and display. Specifically, part 221 requires railroads to furnish a certification that each device has been tested in accordance with current “Guidelines for Testing of Rear End Marking Devices.” Additionally, part 221 requires railroads to furnish detailed test records, which include the testing organizations, description of tests, number of samples tested, and the test results, to demonstrate compliance with the performance standard.

Respondent Universe: 728 railroads.

Frequency of Submission: On occasion.

Total Estimated Responses: 4.

Total Estimated Annual Burden: 39 hours.

Status: Regular review.

Title: Locomotive Certification (Railroad Noise Compliance Regulations).

OMB Control Number: 2130-0527.

Type of Request: Extension of a currently-approved collection.

Affected Public: Businesses.

Form Number(s): N/A.

Abstract: Title 49 CFR part 210 pertains to FRA's noise enforcement procedures, which encompass rail yard noise source standards published by the Environmental Protection Agency (EPA). EPA has the authority to set these standards under the Noise Control Act of 1972. Information FRA collects under part 210 is necessary to ensure compliance with EPA noise standards for new locomotives.

Respondent Universe: 2 Locomotive manufacturers.

Frequency of Submission: On occasion.

CFR section | Respondent universe | Total annual responses | Average time per response | Total annual burden hours
210.27—New Loco. Certification—Requests for Information | 2 Locomotive Manufacturers | 2 requests | 30 minutes | 1
—Identification of Locomotives | 2 Locomotive Manufacturers | 790 badges/plates | 30 minutes | 395
210.31—Operation Standards—Measurement of Loco. Noise Emissions | 2 Locomotive Manufacturers | 790 recorded measurements | 3 hours | 2,370

Total Estimated Responses: 1,582.

Total Estimated Annual Burden: 2,766 hours.

Status: Regular review.

Title: Railroad Police Officers.

OMB Control Number: 2130-0537.

Type of Request: Extension of a currently-approved collection.

Affected Public: Railroads and States.

Form(s): None.

Abstract: Title 49 CFR part 207 requires railroads to notify states of all designated police officers who perform their duties outside of their respective jurisdictions. This requirement is necessary to verify proper police authority.

Total Estimated Responses: 70.

Total Annual Estimated Burden Hours: 181 hours.

Status: Regular review.

Title: Foreign Railroads' Foreign-Based (FRFB) Employees Who Perform Train or Dispatching Service in the United States.

OMB Control Number: 2130-0555.

Type of Request: Extension of a currently-approved collection.

Abstract: For foreign-based railroads with an FRA-approved foreign workplace alcohol and drug testing program equivalent to subparts B, E, F, and G of 49 CFR part 219, this FRA regulation requires removal from service of FRFB train and dispatching service employees testing positive for unauthorized use of alcohol and drugs. Part 219 testing enhances safety and serves as a deterrent to other FRFB train and dispatching service employees who might be tempted to engage in the unauthorized use of drugs or alcohol. FRA uses this collection of information to determine the compliance of FRFB train and dispatching service employees and their employers with the prohibitions against the abuse of alcohol and controlled substances as spelled out in part 219.

Form Number(s): None.

Respondent Universe: 2 railroads.

Frequency of Submission: On occasion.

Affected Public: Foreign-based railroads and their employees.

Reporting Burden:

CFR section | Respondent universe | Total annual responses | Average time per response | Total annual burden hours
219.4—Recognition of Foreign Railroads' Workplace Testing Programs: Petitions to Agency | 2 railroads | 1 petition | 10 hours | 10
—Comments on Petition | 2 railroads/public | 2 comments + 2 comment copies | 2 hours | 4
219.401/403/3/405—Voluntary Referral | 2 railroads | 1 self-referral | 2 hours | 2
219.4032/405 -Evaluation by Substance Abuse Professional | 2 railroads | 4 reports/referrals | 2 hours | 8
219.405(c)(1)—Report by a Co-worker | 2 railroads | 1 report | 5 minutes | .08
219.609—Notice by Employee Asking to be Excused from Random Alcohol Testing | 311 employees | 3 documented excuses | 30 minutes | 2
219.903—Retention of Urine Drug Testing Records | 2 railroads | 80 records | 5 minutes | 7

Total Responses: 94.

Total Estimated Total Annual Burden: 33 hours.

Status: Regular review.

Pursuant to 44 U.S.C. 3507(a) and 5 CFR 1320.5(b) and 1320.8(b)(3)(vi), FRA informs all interested parties that it may not conduct or sponsor, and a respondent is not required to respond to, a collection of information unless it displays a currently valid OMB control number.

Authority: 44 U.S.C. 3501-3520.

Issued in Washington, DC, on April 28, 2016.
Corey Hill,
Executive Director.

[FR Doc. 2016-10317 Filed 5-2-16; 8:45 am]

BILLING CODE 4910-06-P